DEPARTMENT OF HEALTH AND HUMAN SERVICES

Indian Health Service

Request for Public Comment: 60-Day Proposed Information Collection: Indian Health Service Chief Executive Officer Retention Survey

AGENCY: Indian Health Service, HHS.

SUMMARY: The Department of Health and Human Services, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Indian Health Service (IHS) is providing a 60-day advance opportunity for public comment on a proposed extension of current information collection activity to be submitted to the Office of Management and Budget for review.

Proposed Collection

Title: 0917-NEW, “Indian Health Service Chief Executive Officer Retention Survey”.

Type of Information Collection Request: New Collection.

Form Number: None.

Forms: The IHS Chief Executive Officer Retention Survey.

Need and Use of Information Collection: The National Council of Chief Executive Officers (NCCEO) was established to ensure that the IHS Service Unit Chief Executive Officers (CEO) effectively participate in the establishment and implementation of strategies to achieve the IHS mission. Part of their responsibility (as stated in their Charter) includes: ongoing recruitment, development, and retention of professional CEOs. The NCCEO's purpose is to ensure that the IHS Service Unit CEO and their Tribal CEO counterparts effectively participate in the establishment and implementation of an agency strategy to achieve the IHS mission. The current Executive Committee is actively addressing recruitment, retention and succession planning for their constituents, the IHS CEOs. To enhance their ability to be effective in this challenging task, the NCCEO needs to know more about IHS CEOs and the issues that affect retention and recruitment including the competitive influences of private sector health care delivery systems. The chosen method to obtain this critical information from the CEOs of IHS, Tribal and Urban facilities is by electronic survey. The goal of the IHS is to raise the health status of American Indians and Alaska Natives to the highest possible level. To meet this goal, the IHS is committed to providing high quality health services to the eligible service population. An important factor in improving the quality of services is: ensuring that our clinics and hospitals recruit and retain the best possible CEO reasonably available. The proposed survey is designed to ascertain current demographics: age, gender, years of experience, education, pay compared to complexity of facilities, job satisfaction and retirement eligibility.

Affected Public: Individuals.

Type of Respondents: Individuals.

The table below provides the estimated burden hours for this information collection:

Estimated Burden Hours
Data collection instrument | Estimated number of respondents | Responses per respondent | Average burden hour per response * | Total annual burden hrs
CEO Retention Survey | 120 | 1 | 0.15 (10 mins) | 20
*For ease of understanding, burden hours are also provided in actual minutes.

There are no Capital Costs, Operating Costs and/or Maintenance Costs to report.

Request For Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comment and Requests for Further Information: Send your written comments and requests for more information on the proposed collection or requests to obtain a copy of the data collection instruments(s) and instructions to: Mrs. Chris Rouleau, IHS Reports Clearance Officer, 801 Thompson Avenue, TMP Suite 450, Rockville, MD 20852.1601, call non-toll free (301) 443-5938, send via facsimile to (301) 443-2316, or send your E-mail requests, comments, and return address: crouleau@hqe.ihs.gov.

Comment Due Date: Your comments regarding this information collection are best assured of having their full effect if received within 60-days of the date of this publication.

Dated: January 12, 2006.
Charles W. Grim,
Assistant Surgeon General, Director, Indian Health Service.

[FR Doc. 06-452 Filed 1-18-06; 8:45 am]

BILLING CODE 4165-16-M